DEPARTMENT OF COMMERCE

International Trade Administration

[A-570-601]

Tapered Roller Bearings and Parts Thereof, Finished or Unfinished, From the People's Republic of China: Extension of Time Limit for the Final Results of the Antidumping Duty Administrative Review

AGENCY: Import Administration, International Trade Administration, Department of Commerce.

DATES: Effective Date: November 8, 2011.

FOR FURTHER INFORMATION CONTACT: Demitri Kalogeropoulos or Frances Veith, AD/CVD Operations, Office 8, Import Administration, International Trade Administration, U.S. Department of Commerce, 14th Street and Constitution Avenue NW., Washington, DC 20230; telephone: (202) 482-2623 or (202) 482-4295, respectively.

SUPPLEMENTARY INFORMATION:

Background

On July 28, 2010, the Department of Commerce (“Department”) published the initiation of the administrative review of the antidumping duty order on tapered roller bearings and parts thereof, finished or unfinished, (“TRBs”) from the People's Republic of China (“PRC”). See Initiation of Antidumping and Countervailing Duty Administrative Reviews and Requests for Revocation in Part, 75 FR 44224 (July 28, 2010). On July 13, 2011, the Department published the preliminary results of the review. See Tapered Roller Bearings and Parts Thereof, Finished or Unfinished, From the People's Republic of China: Preliminary Results of the 2009-2010 Administrative Review of the Antidumping Duty Order and Intent To Rescind Administrative Review, in Part, 76 FR 41207 (July 13, 2011). The 2009-2010 administrative review covers the period June 1, 2009, through May 31, 2010. The final results are currently due no later than November 10, 2011.

Extension of Time Limit for Final Results of Review

Pursuant to section 751(a)(3)(A) of the Tariff Act of 1930, as amended (“Act”), the Department shall make a final determination in an administrative review of an antidumping duty order within 120 days after the date on which the preliminary results are published. The Act further provides, however, that the Department may extend that 120-day period to 180 days if it determines it is not practicable to complete the review within the foregoing time.

The Department finds that it is not practicable to complete the final results of the 2009-2010 administrative review of TRBs from the PRC within the 120-day period. We find that we need additional time to fully analyze the complicated issues raised in the case and rebuttal briefs, specifically input consumption allocations and issues relating to a successor-in-interest determination. Therefore, in accordance with section 751(a)(3)(A) of the Act, the Department is extending the time period for completion of the final results of this review by 30 days to December 10, 2011. However, because December 10, 2011, falls on a Saturday, a non-business day, the final results will now be due no later than December 12, 2011, the next business day. See Notice of Clarification: Application of “Next Business Day” Rule for Administrative Determination Deadlines Pursuant to the Tariff Act of 1930, As Amended, 70 FR 24533 (May 10, 2005).

This notice is published in accordance with sections 751(a)(3)(A) and 777(i) of the Act.

Dated: November 2, 2011.
Christian Marsh,
Deputy Assistant Secretary for Antidumping and Countervailing Duty Operations.

[FR Doc. 2011-28915 Filed 11-7-11; 8:45 am]

BILLING CODE 3510-DS-P